DEPARTMENT OF THE INTERIOR

Office of the Secretary

Privacy Act of 1974, As Amended; Establishment of a New System of Records

AGENCY: Office of the Secretary.

ACTION: Proposed establishment of a new system of records.

SUMMARY: In accordance with the Privacy Act of 1974, as amended (5 U.S.C. 552a), the Department of the Interior is issuing public notice of its intent to add a new Privacy Act system of records notice to its inventory: Interior, DOI-89, “Grants and Cooperative Agreements: FBMS.” This new notice covers records previously covered in Privacy Act system of records notice Interior, DOI-90, “Federal Financial System.”

DATES: Comments must be received by September 8, 2008.

ADDRESSES: Any persons interested in commenting on this new, proposed system of records may do so by submitting comments in writing to the Office of the Secretary Acting Privacy Act Officer, Linda Thomas, U.S. Department of the Interior, MS-116 SIB, 1951 Constitution Avenue, NW., Washington, DC 20240, or by e-mail to Linda_Thomas@nbc.gov.

FOR FURTHER INFORMATION CONTACT: Office of the Secretary Acting Privacy Act Officer, Linda Thomas, U.S. Department of the Interior, MS-116 SIB, 1951 Constitution Avenue, NW., Washington, DC 20240, or by e-mail to Linda_Thomas@nbc.gov.

SUPPLEMENTARY INFORMATION: The records covered by this notice were previously covered by another Privacy Act System of Records Notice: Interior, DOI-90, “Federal Financial System.” The Office of the Secretary is proposing to establish a separate notice to cover records relating to grants and cooperative agreements to identify more clearly the categories of records included in this system and the parties to whom these records may be disclosed on a routine basis.

The Office of the Secretary is proposing to establish this notice at this time because the Department of the Interior (DOI) is in the process of replacing the Federal Financial System (FFS) with the Financial and Business Management System (FBMS), and because Interior, DOI-90 is being amended to cover only those records relating to DOI's acquisition of goods and services. Upon its amendment, Interior DOI-90 will be renamed DOI-87, “Acquisition of Goods and Services: FBMS.” Other portions of the records previously covered by Interior, DOI-90 will be covered by Interior, DOI-86, “Accounts Receivable: FBMS,” and Interior, DOI-88, “Travel Management: FBMS.”

FBMS will provide the Department of the Interior with standard business practices supported by a single, integrated finance and administrative system for all bureaus; it will help DOI manage a variety of business functions, including the awarding of grants and establishing of cooperative agreements. FBMS takes a comprehensive approach to improving the current business functions in its core systems by replacing DOI's current computer systems with modern software. The combination of standardized business practices and enhanced computer system functionality will enable DOI's bureaus and offices to improve service to their customers and to operate more efficiently. Benefits gained from implementing this suite of applications will include the ability to access and share real-time, accurate business information; to support effective business decisions for mission delivery; to issue accurate financial reports and analysis of managerial data; to support timely decision-making in the field; to free-up more time for mission-focused activities; to focus on value-added analysis rather than data gathering; and to eliminate redundant administrative tasks and multiple login screens.

DOI has adopted a multi-year, phased approach to implementing FBMS, both in terms of functionality, and in terms of the migration of the Department's component bureaus and offices from FFS and other associated systems, to FBMS. DOI plans to complete its implementation of FBMS by calendar year 2013.

Towards that end, this new system will be effective as proposed at the end of the comment period unless comments are received which would require a contrary determination. The Department will publish a revised notice if changes are made based upon a review of comments received.

Linda Thomas,
Office of the Secretary Acting Privacy Officer.

SYSTEM NAME:

Interior, DOI-89, “Grants and Cooperative Agreements: FBMS.”

SYSTEM LOCATION:

Financial and Procurement Systems Division, Budget and Finance, National Business Center, MS D-2790, 7301 West Mansfield Avenue, Denver, CO 80235-2230.

CATEGORIES OF INDIVIDUALS COVERED BY THE SYSTEM:

Individual and corporate recipients of grants and cooperative agreement awards.

Note: This system contains records relating to non-profit and not-for-profit institutions, as well as other business entities. However, only records containing personal information relating to individuals are subject to the Privacy Act.

CATEGORIES OF RECORDS IN THE SYSTEM:

Names of individuals; Social Security Numbers; tax identification numbers; recipient addresses, email addresses, telephone, and fax numbers; and payment information used in accounting and financial processing of grant and cooperative agreement awards.

AUTHORITY FOR MAINTENANCE OF THE SYSTEM:

5 U.S.C. 5701 et seq.

ROUTINE USES OF RECORDS MAINTAINED IN THE SYSTEM, INCLUDING CATEGORIES OF USERS AND THE PURPOSES OF SUCH USES:

The primary purpose of the records is to award and manage grant and cooperative agreement awards.

Other disclosures outside the Department of the Interior may be made:

(1) To the Department of the Treasury for payment of claims.

(2) To the Department of Health and Human Services in the form of grant and cooperative agreement announcements and application packages.

(3) To the Department of Commerce in the form of reports listing all grant and cooperative agreement awards.

(4) To other Federal agencies for the purpose of collecting debts owed to the Federal government.

(5)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(6) To a congressional office in response to a written inquiry that an individual covered by the system, or the heir of such individual if the covered individual is deceased, has made to the office.

(7) To any criminal, civil, or regulatory law enforcement authority (whether Federal, state, territorial, local, tribal or foreign) when a record, either alone or in conjunction with other information, indicates a violation or potential violation of law—criminal, civil, or regulatory in nature, and the disclosure is compatible with the purpose for which the records were compiled.

(8) To an official of another Federal agency to provide information needed in the performance of official duties related to reconciling or reconstructing data files or to enable that agency to respond to an inquiry by the individual to whom the record pertains.

(9) To Federal, state, territorial, local, tribal, or foreign agencies that have requested information relevant or necessary to the hiring, firing or retention of an employee or contractor, or the issuance of a security clearance, license, contract, grant, or other benefit, when the disclosure is compatible with the purpose for which the records were compiled.

(10) To representatives of the National Archives and Records Administration to conduct records management inspections under the authority of 44 U.S.C. 2904 and 2906.

(11) To state and local governments and tribal organizations to provide information needed in response to court order and/or discovery purposes related to litigation, when the disclosure is compatible with the purpose for which the records were compiled.

(12) To an expert, consultant, or contractor (including employees of the contractor) of DOI that performs services requiring access to these records on DOI's behalf to carry out the purposes of the system.

(13) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(14) To the Office of Management and Budget during the coordination and clearance process in connection with legislative affairs as mandated by OMB Circular A-19.

(15) To the Department of the Treasury to recover debts owed to the United States.

(16) To the news media when the disclosure is compatible with the purpose for which the records were compiled.

DISCLOSURE TO CONSUMER REPORTING AGENCIES:

Pursuant to 5 U.S.C. 552a(b)(12), disclosures may be made to a consumer reporting agency as defined in the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

STORAGE:

Records are maintained in manual, microfilm, microfiche, electronic, imaged and computer printout form. Electronic records are stored on magnetic media at the central computer processing center. Original input documents are stored in standard office filing equipment and/or as imaged documents on magnetic media at all locations which prepare and provide input documents and information for data processing.

RETRIEVABILITY:

Records are retrieved by document award number and recipient name or Social Security Number/Taxpayer Identification Number (individuals).

SAFEGUARDS:

FBMS is maintained with controls meeting safeguard requirements identified in Departmental Privacy Act Regulations (43 CFR 2.51) for manual and automated records. Access to records is limited to authorized personnel whose official duties require such access; agency officials have access only to records pertaining to their agencies.

(1) Physical Security: Paper or micro format records are maintained in locked file cabinets and/or in secured rooms.

(2) Technical Security: Electronic records are maintained in conformity with Office of Management and Budget and Departmental guidelines reflecting the implementation of the Federal Information Security Management Act. Electronic data is protected through user identification, passwords, database permissions, and software controls. These security measures establish different degrees of access for different types of users. An audit trail is maintained and reviewed periodically to identify unauthorized access. A Privacy Impact Assessment was completed for the FBMS and is updated at least annually to ensure that Privacy Act requirements and personally identifiable information safeguard requirements are met.

(3) Administrative Security: All DOI and contractor employees with access to FBMS are required to complete Privacy Act, Federal Records Act and Security Awareness training prior to being given access to the system, and on an annual basis, thereafter.

RETENTION AND DISPOSAL:

While records are generally retained and disposed of in accordance with General Records Schedule No. 3, a new records schedule for FBMS is in process in the Office of the Secretary.

SYSTEM MANAGER(S) AND ADDRESS:

(1) The following co-system owners have overall responsibility for the Financial and Business Management System:

(a) Director, Office of Acquisition and Property Management, U.S. Department of the Interior, Office of the Secretary, 1849 C Street, NW., MS-2607 MIB, Washington, DC 20240; and

(b) Director, Office of Financial Management, U.S. Department of the Interior, Office of the Secretary, 1849 C Street, NW., MS-2557, Washington, DC 20240.

(2) The following system manager has responsibility for the management and operation of the computing center on which the Financial and Business Management System is being implemented: Chief, Financial and Procurement Systems Division, Budget and Finance, National Business Center, MS D-2790, 7301 West Mansfield Avenue, Denver, CO 80235-2230.

(3) The following Department of the Interior bureau/office system managers have responsibility for the data input into and maintained on the Financial and Business Management System by or for their respective bureaus/offices:

(a) Chief, Division of Financial Management, Office of Surface Mining Reclamation and Enforcement, P.O. Box 25065, Denver Federal Center, Building 25, Room 1501, Denver, CO 80225-0065.

(b) Chief, Finance Division, Minerals Management Service, Mail Stop 2310, 381 Elden Street, Herndon, VA 20170-4817.

(c) Chief, Division of Financial Management, U.S. Fish and Wildlife Service, Mail Stop 7029-43, 4401 North Fairfax Drive, Arlington, VA, 22203.

(d) Chief, Office of Financial Management, Indian Affairs, Ely S. Parker Building, 2051 Mercator Drive, Reston, VA 20191.

(e) Finance Officer, Bureau of Land Management, Building 50, Denver Federal Center, P.O. Box 25047, Denver, CO 80225.

(f) Manager, Finance and Accounting Division, Bureau of Reclamation, P.O. Box 25007, DFC Attn: 84-27700, Denver, CO 80225-0007.

(g) Finance Officer, Office of Financial Management, Office of the Secretary, 1849 C Street, NW., MS-2557 MIB, Washington, DC 20240.

(h) Manager, Accounting Operations Center, National Park Service, 13461 Sunrise Valley Drive, 2nd Floor, Herndon, VA 20171.

(i) U.S. Geological Survey, Office of Accounting and Financial Management, Mail Stop 270, 12201 Sunrise Valley Drive, Reston, VA 20192.

(j) Chief, Accounting Operations Division, National Business Center, 7301 West Mansfield Avenue, Mail Stop D-2770, Denver, CO 80235-2230.

NOTIFICATION PROCEDURES:

An individual requesting notification of the existence of records on himself or herself should address his/her request to the appropriate bureau/office System Manager. The request must be in writing, signed by the requester, and meet the content requirements of 43 CFR 2.60.

RECORDS ACCESS PROCEDURES:

An individual requesting access to records maintained on himself or herself should address his/her request to the appropriate bureau/office System Manager. The request must be in writing, signed by the requester, and meet the content requirements of 43 CFR 2.63.

CONTESTING RECORDS PROCEDURES:

An individual requesting amendment of a record maintained on himself or herself should address his/her request to the appropriate bureau/office System Manager. The request must be in writing, signed by the requester, and meet the content requirements of 43 CFR 2.71.

RECORD SOURCE CATEGORIES:

Grant and cooperative agreement award recipients; grants and cooperative agreement officers, finance and accounting personnel (certifying officials); and application, award, finance, and accounting documents.

EXEMPTIONS CLAIMED FOR THE SYSTEM:

None.

[FR Doc. E8-17264 Filed 7-25-08; 8:45 am]

BILLING CODE 4310-RK-P